DEPARTMENT OF ENERGY

Federal Energy Regulatory Commission

[Docket No. RP97-288-009 through 024]

Transwestern Pipeline Company; Notice of Technical Conference

September 18, 2002.

Take notice that on August 16, 2002, Transwestern Pipeline Company (Transwestern) filed a request for a conference to discuss Transwestern's proposal for addressing certain issues in these dockets.

Take notice that a technical conference to discuss the various issues raised by Transwestern's filing will be held on Wednesday, September 25, 2002 at 10:00 am, in a room to be designated at the offices of the Federal Energy Regulatory Commission, 888 First Street, NE, Washington, DC 20426.

All interested parties and Staff are permitted to attend.

Linwood A. Watson, Jr.,
Deputy Secretary.

[FR Doc. 02-24194 Filed 9-23-02; 8:45 am]

BILLING CODE 6717-01-P